DEPARTMENT OF HEALTH AND HUMAN SERVICES

Centers for Disease Control and Prevention

Health Resources and Services Administration

CDC/HRSA Advisory Committee on HIV, Viral Hepatitis and STD Prevention and Treatment

In accordance with section l0(a)(2) of the Federal Advisory Committee Act (Pub. L. 92-463), the Centers for Disease Control and Prevention (CDC) and the Health Resources and Services Administration (HRSA) announce the following meeting of the aforementioned committee:

Times and Dates:

8:00 a.m.-5:30 p.m., May 21, 2014

8:00 a.m.-2:30 p.m., May 22, 2014

PLACE: CDC Corporate Square, Building 8, Conference Room 1-ABC, 8 Corporate Boulevard, Atlanta, Georgia 30329, Telephone: (404) 639-8317.

STATUS: Open to the public, limited only by the space available. The meeting room will accommodate approximately 100 people. This meeting is also accessible by teleconference. Toll-free number +1 (877) 603-4228, Participant code: 42598858.

Purpose: This Committee is charged with advising the Director, CDC and the Administrator, HRSA, regarding activities related to prevention and control of HIV/AIDS, Viral Hepatitis and other STDs, the support of health care services to persons living with HIV/AIDS, and education of health professionals and the public about HIV/AIDS, Viral Hepatitis and other STDs.

Matters for Discussion: Agenda items include: (1) Improving screening and treatment of Hepatitis C Virus (HCV); (2) Innovative approaches to HIV prevention among Men Who Have Sex with Men (MSM); (3) Preventing HCV and HIV among Injection Drug Users (IDUs); (4) How to expand and improve screening for HIV, HCV and Chlamydia; and (5) Updates from Workgroups.

Agenda items are subject to change as priorities dictate.

CONTACT PERSON FOR MORE INFORMATION: Margie Scott-Cseh, CDC, National Center for HIV/AIDS, Viral Hepatitis, STD, and TB Prevention, 1600 Clifton Road NE., Mailstop E-07, Atlanta, Georgia 30333, Telephone: (404) 639-8317.

This notice is being published on less than 15 days prior to the meeting date due to an unforeseen technological anomaly during the submission of this meeting announcement.

The Director, Management Analysis and Services Office, has been delegated the authority to sign Federal Register Notices pertaining to announcements of meetings and other committee management activities, for both the Centers for Disease Control and Prevention and the Agency for Toxic Substances and Disease Registry.

Elaine L. Baker,
Director, Management Analysis and Services Office, Centers for Disease Control and Prevention (CDC).

[FR Doc. 2014-10894 Filed 5-12-14; 8:45 am]

BILLING CODE 4163-18-P